NUCLEAR REGULATORY COMMISSION

Advisory Committee on Reactor Safeguards Meeting of the Subcommittee on Digital Instrumentation and Control Systems; Notice of Meeting

The ACRS Subcommittee on Digital Instrumentation and Control Systems will hold a meeting on October 20-21, 2005, Room T-2B3, 11545 Rockville Pike, Rockville, Maryland.

The entire meeting will be open to public attendance, with the exception of a portion that will be closed on Thursday, October 20, 2005, 8:30 a.m. until 12:30 p.m. to discuss safeguards information pursuant to 5 U.S.C. 552b(c)(3).

The agenda for the subject meeting shall be as follows:

Thursday, October 20, 2005—8:30 a.m. until the close of business

Friday, October 21, 2005—8:30 a.m. until the close of business

The purpose of the meeting is to review selected digital instrumentation and control research projects and related matters. The Subcommittee will hear presentations by and hold discussions with representatives of the Office of Nuclear Regulatory Research and other interested persons regarding this matter. The Subcommittee will gather information, analyze relevant issues and facts, and formulate proposed positions and actions, as appropriate, for deliberation by the full Committee.

Members of the public desiring to provide oral statements and/or written comments should notify the Designated Federal Official, Mr. Eric A. Thornsbury (telephone (301) 415-8716), five days prior to the meeting, if possible, so that appropriate arrangements can be made. Electronic recordings will be permitted.

Further information regarding this meeting can be obtained by contacting the Designated Federal Official or the Cognizant Staff Engineer between 7:30 a.m. and 4:15 p.m. (ET). Persons planning to attend this meeting are urged to contact one of the above named individuals at least two working days prior to the meeting to be advised of any potential changes to the agenda.

Dated: September 21, 2005.
Michael R. Snodderly,
Acting Chief, ACRS/ACNW.

[FR Doc. E5-5318 Filed 9-28-05; 8:45 am]

BILLING CODE 7590-01-P